DEPARTMENT OF COMMERCE

Submission for OMB Review; Comment Request

The Department of Commerce has submitted to the Office of Management and Budget (OMB) for clearance the following proposal for collection of information under the provisions of the Paperwork Reduction Act (44 U.S.C. chapter 35).

Agency: National Telecommunications and Information Administration (NTIA).

Title: Public Telecommunications Facilities Program (PTFP) Grant Monitoring.

Form Number(s): None.

OMB Approval Number: 0660-0001.

Type of Review: Regular submission.

Burden Hours: 6,758.

Number of Respondents: 1,950.

Average Hours Per Response: NTIA/PTFP estimates that it takes an average of 28 hours a year for those who respond online and 39 hours a year for those who respond on paper to gather the information, complete the reports, and submit them.

Needs and Uses: The purpose of this program is to assist, through matching funds, in the planning and construction of public telecommunications facilities. The reporting requirements: Construction schedules/planning timetables are obtained to ensure the ability of NTIA/PTFP to monitor a project through the quarterly performance reports; close-out reports enable the agency to ensure that Federal funds were expended in accordance with the grant award; and the annual reports enable the agency to be sure that the Federal interest is maintained and protected for the statutorily specified 10-year period.

Affected Public: Not-for-profit institutions; state, local, or tribal governments.

Frequency: Annually and quarterly.

Respondent's Obligation: Required to retain benefits.

OMB Desk Officer: Kristy LaLonde, contact information below.

Copies of the above information collection proposal can be obtained by calling or writing Diana Hynek, Departmental Paperwork Clearance Officer, (202) 482-0266, Department of Commerce, Room 6625, 1401 Constitution Avenue, NW., Washington, DC 20230 (or via the Internet at dHynek@doc.gov).

Written comments and recommendations for the proposed information collection should be sent within 30 days of publication of this notice to Kristy LaLonde, OMB Desk Officer, FAX number (202) 395-5167 or via the Internet at Krist_L._LaLonde@omb.eop.gov.

Dated: April 24, 2006.
Gwellnar Banks,
Management Analyst, Office of the Chief Information Officer.

[FR Doc. E6-6378 Filed 4-27-06; 8:45 am]

BILLING CODE 3510-60-P